DEPARTMENT OF DEFENSE

Office of the Secretary

32 CFR Part 100

[Docket ID: DOD-2018-OS-0069]

RIN 0790-AK28

Unsatisfactory Performance of Ready Reserve Obligation

AGENCY: Under Secretary of Defense (Personnel and Readiness), DoD.

ACTION: Final rule.

SUMMARY: This final rule removes DoD's regulation which contains internal policy on actions to be taken in regard to members of the Ready Reserve whose performance of duty or participation in Reserve training is unsatisfactory. This part has not been updated since 1979 and is obsolete. Current internal procedures will continue to be maintained and updated in a DoD issuance.

DATES: This rule is effective on February 1, 2019.

FOR FURTHER INFORMATION CONTACT: Colonel David Feeley, (703) 693-2195 or david.c.feeley.mil@mail.mil.

SUPPLEMENTARY INFORMATION: It has been determined that publication of this CFR part removal for public comment is impracticable, unnecessary, and contrary to public interest since it is based on removing DoD internal policies and procedures that are publicly available on the Department's issuance website. DoD Instruction 1215.13, “Ready Reserve Member Participation Policy,” most recently updated in 2015, is the governing DoD policy (available at http://www.esd.whs.mil/Portals/54/Documents/DD/issuances/dodi/121513p.pdf).

This rule is not significant under Executive Order (E.O.) 12866, “Regulatory Planning and Review,” therefore, the requirements of E.O. 13771, “Reducing Regulation and Controlling Regulatory Costs” do not apply.

List of Subjects in 32 CFR Part 100

Armed forces reserves.

PART 100—[REMOVED]

Accordingly, by the authority of 5 U.S.C. 301, 32 CFR part 100 is removed.

Dated: January 28, 2019.
Aaron T. Siegel,
Alternate OSD Federal Register Liaison Officer, Department of Defense.

[FR Doc. 2019-00445 Filed 1-31-19; 8:45 am]

BILLING CODE 5001-06-P